DEPARTMENT OF STATE

22 CFR Part 51

[Public Notice: 9715]

RIN 1400-AD97

Passports; Correction

AGENCY: Department of State.

ACTION: Final rule; correction; correcting amendments.

SUMMARY: The Department of State published a final rule in the Federal Register on September 2, 2016 (81 FR 60608), amending the passport rules for the Department of State (the Department). The document requires certain corrections: A correction to a statutory citation; and adds a paragraph to the SUPPLEMENTARY INFORMATION relating to implementation of the rule.

DATES: This rule is effective on September 27, 2016.

FOR FURTHER INFORMATION CONTACT: Stephanie Traub, Office of Legal Affairs, Passport Services, (202) 485-6500. Hearing- or speech-impaired persons may use the Telecommunications Devices for the Deaf (TDD) by contacting the Federal Information Relay Service at 1-800-877-8339.

SUPPLEMENTARY INFORMATION: The Department of State published a final rule on September 2, 2016 (81 FR 60608). This document corrects the final rule by changing “42 U.S.C. 16935a” to “22 U.S.C. 212b(c)(1)”, wherever it occurs; and by adding a paragraph to the SUPPLEMENTARY INFORMATION, regarding implementation of the rule.

Correction

In the FR Doc 2016-21087, appearing on page 60608, in the Federal Register of September 2, 2016 (81 FR 60608) the following corrections are made:

1. Remove “42 U.S.C. 16935a” and add in its place “22 U.S.C. 212b(c)(1)” in the following places:

a. On page 60608, in the second column, first paragraph, of the SUPPLEMENTARY INFORMATION; and

b. On page 60608, in the third column, first full paragraph.

2. Add the following paragraph on page 60608, third column, after the first full paragraph and prior to “Regulatory Findings”:

Pursuant to 22 U.S.C. 212b(f), § 51.60(a)(4) and (g) shall not be applied until the Secretary of State, the Secretary of Homeland Security, and the Attorney General certify to Congress that the process they developed and reported to Congress has been successfully implemented. Updates regarding the implementation of these sections as well as § 51.60(a)(3) will be posted on http://travel.state.gov.

List of Subjects in 22 CFR Part 51

Passports.

Accordingly, for the reasons set forth in the preamble, 22 CFR part 51 is corrected by making the following correcting amendments:

PART 51—PASSPORTS

1. The authority citation for part 51 continues to read as follows:

Authority: 8 U.S.C. 1504; 18 U.S.C. 1621; 22 U.S.C. 211a, 212, 212b, 213, 213n (Pub. L. 106-113 Div. B, Sec. 1000(a)(7) [Div. A, Title II, Sec. 236], 113 Stat. 1536, 1501A-430); 214, 214a, 217a, 218, 2651a, 2671(d)(3), 2705, 2714, 2714a, 2721, & 3926; 26 U.S.C. 6039E; 31 U.S.C. 9701; 42 U.S.C. 652(k) [Div. B, Title V of Pub. L. 103-317, 108 Stat. 1760]; E.O. 11295, Aug. 6, 1966, FR 10603, 3 CFR, 1966-1970 Comp., p. 570; Pub. L. 114-119, 130 Stat. 15; Sec. 1 of Pub. L. 109-210, 120 Stat. 319; Sec. 2 of Pub. L. 109-167, 119 Stat. 3578; Sec. 5 of Pub. L. 109-472, 120 Stat. 3554; Pub. L. 108-447, Div. B, Title IV, Dec. 8, 2004, 118 Stat. 2809; Pub. L. 108-458, 118 Stat. 3638, 3823 (Dec. 17, 2004).

§ 51.60 [Amended]

2. Amend § 51.60 in paragraphs (a)(4) and (g) by removing “42 U.S.C. 16935a” and adding in its place “22 U.S.C. 212b(c)(1)”.

Dated: September 20, 2016.
Michele Thoren Bond,
Assistant Secretary Bureau of Consular Affairs, Department of State.

[FR Doc. 2016-23283 Filed 9-26-16; 8:45 am]

BILLING CODE 4710-06-P